DEPARTMENT OF DEFENSE

Defense Acquisition Regulations System

48 CFR Parts 211 and 252

RIN 0750-AF31

Defense Federal Acquisition Regulation Supplement; Radio Frequency Identification (DFARS Case 2006-D002)

AGENCY: Defense Acquisition Regulations System, Department of Defense (DoD).

ACTION: Interim rule with request for comments.

SUMMARY: DoD has issued an interim rule amending the Defense Federal Acquisition Regulation Supplement (DFARS) to include additional commodities and DoD locations that require package marking with passive radio frequency identification (RFID) tags. The rule requires contractors to affix passive RFID tags at the case and palletized unit load levels when shipping packaged petroleum, lubricants, oils, preservatives, chemicals, additives, construction and barrier materials, and medical materials to specified DoD locations.

DATES: Effective date: May 19, 2006.

Comment date: Comments on the interim rule should be submitted in writing to the address shown below on or before July 18, 2006, to be considered in the formation of the final rule.

ADDRESSES: You may submit comments, identified by DFARS Case 2006-D002, using any of the following methods:

• Federal eRulemaking Portal: http://www.regulations.gov. Follow the instructions for submitting comments.

• E-mail: dfars@osd.mil. Include DFARS Case 2006-D002 in the subject line of the message.

• Fax: (703) 602-0350.

• Mail: Defense Acquisition Regulations System, Attn: Ms. Robin Schulze, OUSD (AT&L) DPAP (DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Robin Schulze, (703) 602-0326.

SUPPLEMENTARY INFORMATION:

A. Background

DoD has developed a three-year roll-out plan for supplier implementation of RFID. This rule addresses the second year of the plan. Year one of the plan was implemented in the final rule published at 70 FR 53955 on September 13, 2005. This interim rule adds requirements for contractors supplying materiel to DoD to affix passive RFID tags at the case and palletized unit load levels when shipping packaged petroleum, lubricants, oils, preservatives, chemicals, additives, construction and barrier materials, and medical materials to the Defense Distribution Depots in Albany, GA; Anniston, AL; Barstow, CA; Cherry Point, NC; Columbus, OH; Corpus Christi, TX; Hill, UT; Jacksonville, FL; Oklahoma City, OK; Norfolk, VA; Puget Sound, WA; Red River, TX; Richmond, VA; San Diego, CA; Tobyhanna, PA; and Warner Robins, GA; and the Air Mobility Command Terminals at Charleston Air Force Base, Charleston, SC; Naval Air Station, Norfolk, VA; and Travis Air Force Base, Fairfield, CA. The rule requires that the specified commodities delivered to the specified locations be tagged with a readable passive RFID tag in accordance with the applicable implementation plan at http://www.acq.osd.mil/log/rfid/implementation_plan.htm. The data encoding schemes that contractors may write to the tags are located at http://www.acq.osd.mil/log/rfid/tag_data.htm. In addition, contractors must send an advance shipment notice in accordance with the procedures at http://www.acq.osd.mil/log/rfid/advance_shipment_ntc.htm, to provide the association between the unique identification encoded on the passive tag(s) and the product information at the applicable case and palletized unit load levels.

This rule was not subject to Office of Management and Budget review under Executive Order 12866, dated September 30, 1993.

B. Regulatory Flexibility Act

This rule may have an impact on a substantial number of small entities within the meaning of the Regulatory Flexibility Act, 5 U.S.C. 601, et seq. DoD has prepared a separate regulatory flexibility analysis, available at http://www.acq.osd.mil/log/rfid/regflex.htm. The analysis is summarized as follows:

This rule adds requirements for DoD contractors supplying materiel to DoD to affix passive RFID tags at the case and palletized unit load levels for specified commodities delivered to specified DoD locations. To create an automated and sophisticated end-to-end supply chain, DoD is dependent upon initiating the technology at the point of origin, the DoD commercial suppliers. Without the assistance of the DoD supplier base to populate the DoD supply chain with passive RFID tags, a fully integrated, highly visible, automated end-to-end supply chain is untenable. DoD contractors are presently required to print and affix military shipping labels to every package delivered to DoD. For packaged operational rations, clothing, individual equipment, tools, personal demand items, and weapon system repair parts shipped to the Defense Distribution Depot in Susquehanna, PA, or the Defense Distribution Depot in San Joaquin, CA, DoD contractors already are required to affix passive RFID tags at the case and palletized unit load levels.

Options to comply with the requirements of the rule can be as simple as replacing existing military shipping label printers with RFID-enabled printers, which will allow DoD contractors to print military shipping labels with embedded RFID tags. The regulatory flexibility analysis describes other options and approximate costs to comply. The rule will also require contractors to provide an electronic advance shipment notice in accordance with the procedures at http://www.acq.osd.mil/log/rfid/advance_shipment_ntc.htm, to associate RFID tag data with the corresponding shipment. The objective of the rule is to improve visibility of DoD assets in the supply chain, increase accuracy of shipments and receipts, and reduce the number of logistic “touch points” in order to decrease the amount of time it takes to deliver materiel to the warfighter. The rule does not duplicate, overlap, or conflict with any other Federal rules.

C. Paperwork Reduction Act

This interim rule adds new information collection requirements. The Office of Management and Budget (OMB) has approved the information collection requirements for use through October 31, 2006, under OMB Control Number 0704-0434, in accordance with the emergency processing procedures of 5 CFR 1320.13. DoD invites comments on: (a) Whether the collection of information is necessary for the proper performance of the functions of DoD, including whether the information will have practical utility; (b) the accuracy of the estimate of the burden of the information collection; (c) ways to enhance the quality, utility, and clarity of the information to be collected; and (d) ways to minimize the burden of the information collection on respondents, including the use of automated collection techniques or other forms of information technology.

Title: Defense Federal Acquisition Regulation Supplement (DFARS); Radio Frequency Identification Advance Shipment Notices.

Type of Request: New collection. (Of the following 31,556 estimated annual burden hours, 21,038 hours were previously approved under OMB Control Number 0704-0434, for the advance shipment notice requirements in the final rule published at 70 FR 53955 on September 13, 2005.)

Number of Respondents: 25,500.

Responses Per Respondent: 3,981.

Annual Responses: 101,515,500.

Average Burden Per Response: Approximately 1.12 seconds.

Annual Burden Hours: 31,556.

Needs and Uses: DoD needs an advance shipment notice prior to shipment of materiel containing RFID tag data. DoD receiving personnel use the advance shipment notice to associate the unique identification encoded on the RFID tag with the corresponding shipment. Use of RFID technology permits DoD to create an automated and sophisticated end-to-end supply chain, thereby increasing visibility of assets and permitting delivery of supplies to the warfighter more quickly.

Affected Public: Businesses or other for-profit and not-for-profit institutions.

Frequency: On occasion.

Respondent's Obligation: Required to obtain or retain benefits.

OMB Desk Officer: Ms. Hillary Jaffe.

Written comments and recommendations on the information collection should be sent to Ms. Jaffe at the Office of Management and Budget, Desk Officer for DoD, Room 10236, New Executive Office Building, Washington, DC 20503, with a copy to the Defense Acquisition Regulations System, Attn: Ms. Robin Schulze, OUSD (AT&L) DPAP (DARS), IMD 3C132, 3062 Defense Pentagon, Washington, DC 20301-3062. Comments can be received from 30 to 60 days after the date of this notice, but comments to OMB will be most useful if received by OMB within 30 days after the date of this notice.

To request more information on this information collection or to obtain a copy of the proposal and associated collection instruments, please write to Defense Acquisition Regulations System, Attn: Ms. Robin Schulze, OUSD (AT&L) DPAP (DARS), IMD 3C132, 3062 Defense Pentagon, Washington, DC 20301-3062.

D. Determination to Issue an Interim Rule

A determination has been made under the authority of the Secretary of Defense that urgent and compelling reasons exist to publish an interim rule prior to affording the public an opportunity to comment. DoD considers the implementation of RFID to be a strategic imperative, necessary to deliver supplies to our warfighters more quickly. Use of RFID technology improves the accuracy of shipment and receipt data, increases the visibility of assets throughout the DoD supply chain, and permits DoD to optimize the manner in which it moves and accounts for materiel. This interim rule adds commodities and DoD locations to those already required by the clause at DFARS 252.211-7006, Radio Frequency Identification.

DoD has developed a three-year roll-out plan for supplier implementation of RFID. This rule addresses the second year of the plan, and is necessary for effective application of RFID technology throughout the DoD supply chain. Comments received in response to this interim rule will be considered in the formation of the final rule.

List of Subjects in 48 CFR Parts 211 and 252

Government procurement.

Michele P. Peterson,
Editor, Defense Acquisition Regulations System.

Therefore, 48 CFR parts 211 and 252 are amended as follows:

PART 211—[AMENDED]

1. The authority citation for 48 CFR parts 211 and 252 continues to read as follows:

Authority: 41 U.S.C. 421 and 48 CFR Chapter 1.

2. Section 211.275-2 is revised to read as follows:

211.275-2 Policy.

Radio frequency identification (RFID), in the form of a passive RFID tag, is required for individual cases and palletized unit loads that—

(a) Contain items in any of the following classes of supply, as defined in DoD 4140.1-R, DoD Supply Chain Materiel Management Regulation, AP1.1.11, except that bulk commodities are excluded from this requirement:

(1) Subclass of Class I—Packaged operational rations.

(2) Class II—Clothing, individual equipment, tentage, organizational tool kits, hand tools, and administrative and housekeeping supplies and equipment.

(3) Class IIIP—Packaged petroleum, lubricants, oils, preservatives, chemicals, and additives.

(4) Class IV—Construction and barrier materials.

(5) Class VI—Personal demand items (non-military sales items).

(6) Subclass of Class VIII—Medical materials (excluding pharmaceuticals, biologicals, and reagents).

(7) Class IX—Repair parts and components including kits, assemblies and subassemblies, reparable and consumable items required for maintenance support of all equipment, excluding medical-peculiar repair parts; and

(b) Will be shipped to one of the following locations:

(1) Defense Distribution Depot, Susquehanna, PA: DoDAAC W25G1U or SW3124.

(2) Defense Distribution Depot, San Joaquin, CA: DoDAAC W62G2T or SW3224.

(3) Defense Distribution Depot, Albany, GA: DoDAAC SW3121.

(4) Defense Distribution Depot, Anniston, AL: DoDAAC W31G1Z or SW3120.

(5) Defense Distribution Depot, Barstow, CA: DoDAAC SW3215.

(6) Defense Distribution Depot, Cherry Point, NC: DoDAAC SW3113.

(7) Defense Distribution Depot, Columbus, OH: DoDAAC SW0700.

(8) Defense Distribution Depot, Corpus Christi, TX: DoDAAC W45H08 or SW3222.

(9) Defense Distribution Depot, Hill, UT: DoDAAC SW3210.

(10) Defense Distribution Depot, Jacksonville, FL: DoDAAC SW3122.

(11) Defense Distribution Depot, Oklahoma City, OK: DoDAAC SW3211.

(12) Defense Distribution Depot, Norfolk, VA: DoDAAC SW3117.

(13) Defense Distribution Depot, Puget Sound, WA: DoDAAC SW3216.

(14) Defense Distribution Depot, Red River, TX: DoDAAC W45G19 or SW3227.

(15) Defense Distribution Depot, Richmond, VA: DoDAAC SW0400.

(16) Defense Distribution Depot, San Diego, CA: DoDAAC SW3218.

(17) Defense Distribution Depot, Tobyhanna, PA: DoDAAC W25G1W or SW3114.

(18) Defense Distribution Depot, Warner Robins, GA: DoDAAC SW3119.

(19) Air Mobility Command Terminal, Charleston Air Force Base, Charleston, SC: Air Terminal Identifier Code CHS.

(20) Air Mobility Command Terminal, Naval Air Station, Norfolk, VA: Air Terminal Identifier Code NGU.

(21) Air Mobility Command Terminal, Travis Air Force Base, Fairfield, CA: Air Terminal Identifier Code SUU.

PART 252—[AMENDED]

3. Section 252.211-7006 is amended as follows:

a. By revising the clause date;

b. In paragraph (a), by revising the definition of “Passive RFID tag”; and

c. By revising paragraphs (b) through (e) to read as follows:

252.211-7006 Radio Frequency Identification.

* * * * *

RADIO FREQUENCY IDENTIFICATION (MAY 2006)

(a) * * *

Passive RFID tag means a tag that reflects energy from the reader/interrogator or that receives and temporarily stores a small amount of energy from the reader/interrogator signal in order to generate the tag response.

(1) Until September 30, 2006, the acceptable tags are—

(i) EPC Class 0 passive RFID tags that meet the EPCglobal Class 0 specification; and

(ii) EPC Class 1 passive RFID tags that meet the EPCglobal Class 1 specification. This includes both the Generation 1 and Generation 2 Class 1 specifications.

(2) Beginning October 1, 2006, the only acceptable tags are EPC Class 1 passive RFID tags that meet the EPCglobal Class 1 Generation 2 specification. Class 0 and Class 1 Generation 1 tags will no longer be accepted after September 30, 2006.

* * * * *

(b)(1) Except as provided in paragraph (b)(2) of this clause, the Contractor shall affix passive RFID tags, at the case and palletized unit load packaging levels, for shipments of items that—

(i) Are in any of the following classes of supply, as defined in DoD 4140.1-R, DoD Supply Chain Materiel Management Regulation, AP1.1.11:

(A) Subclass of Class I—Packaged operational rations.

(B) Class II—Clothing, individual equipment, tentage, organizational tool kits, hand tools, and administrative and housekeeping supplies and equipment.

(C) Class IIIP—Packaged petroleum, lubricants, oils, preservatives, chemicals, and additives.

(D) Class IV—Construction and barrier materials.

(E) Class VI—Personal demand items (non-military sales items).

(F) Subclass of Class VIII—Medical materials (excluding pharmaceuticals, biologicals, and reagents).

(G) Class IX—Repair parts and components including kits, assemblies and subassemblies, reparable and consumable items required for maintenance support of all equipment, excluding medical-peculiar repair parts; and

(ii) Are being shipped to any of the following locations:

(A) Defense Distribution Depot, Susquehanna, PA: DoDAAC W25G1U or SW3124.

(B) Defense Distribution Depot, San Joaquin, CA: DoDAAC W62G2T or SW3224.

(C) Defense Distribution Depot, Albany, GA: DoDAAC SW3121.

(D) Defense Distribution Depot, Anniston, AL: DoDAAC W31G1Z or SW3120.

(E) Defense Distribution Depot, Barstow, CA: DoDAAC SW3215.

(F) Defense Distribution Depot, Cherry Point, NC: DoDAAC SW3113.

(G) Defense Distribution Depot, Columbus, OH: DoDAAC SW0700.

(H) Defense Distribution Depot, Corpus Christi, TX: DoDAAC W45H08 or SW3222.

(I) Defense Distribution Depot, Hill, UT: DoDAAC SW3210.

(J) Defense Distribution Depot, Jacksonville, FL: DoDAAC SW3122.

(K) Defense Distribution Depot, Oklahoma City, OK: DoDAAC SW3211.

(L) Defense Distribution Depot, Norfolk, VA: DoDAAC SW3117.

(M) Defense Distribution Depot, Puget Sound, WA: DoDAAC SW3216.

(N) Defense Distribution Depot, Red River, TX: DoDAAC W45G19 or SW3227.

(O) Defense Distribution Depot, Richmond, VA: DoDAAC SW0400.

(P) Defense Distribution Depot, San Diego, CA: DoDAAC SW3218.

(Q) Defense Distribution Depot, Tobyhanna, PA: DoDAAC W25G1W or SW3114.

(R) Defense Distribution Depot, Warner Robins, GA: DoDAAC SW3119.

(S) Air Mobility Command Terminal, Charleston Air Force Base, Charleston, SC: Air Terminal Identifier Code CHS.

(T) Air Mobility Command Terminal, Naval Air Station, Norfolk, VA: Air Terminal Identifier Code NGU.

(U) Air Mobility Command Terminal, Travis Air Force Base, Fairfield, CA: Air Terminal Identifier Code SUU.

(2) Bulk commodities are excluded from the requirements of paragraph (b)(1) of this clause.

(c) The Contractor shall ensure that—

(1) The data encoded on each passive RFID tag are unique (i.e., the binary number is never repeated on any and all contracts) and conforms to the requirements in paragraph (d) of this clause;

(2) Each passive tag is readable; and

(3) The passive tag is affixed at the appropriate location on the specific level of packaging, in accordance with MIL-STD-129 (Section 4.9.2) tag placement specifications.

(d) Data syntax and standards. The Contractor shall encode an approved RFID tag using the instructions provided in the most recent EPC™ Tag Data Standards document, available at http://www.epcglobalinc.org/standards_technology/specifications.html.

(1) If the Contractor is an EPCglobal™ subscriber and possesses a unique EPC™ company prefix, the Contractor may use any of the identity types and encoding instructions described in the most recent EPC™ Tag Data Standards document to encode tags.

(2) If the Contractor chooses to employ the DoD Identity Type, the Contractor shall use its previously assigned Commercial and Government Entity (CAGE) Code and shall encode the tags in accordance with the tag identity type details located at http://www.acq.osd.mil/log/rfid/tag_data.htm. If the Contractor uses a third party packaging house to encode its tags, the CAGE code of the third party packaging house is acceptable.

(3) Regardless of the selected encoding scheme, the Contractor is responsible for ensuring that each tag contains a globally unique identifier.

(e) Receiving report. The Contractor shall electronically submit advance shipment notice(s) with the RFID tag identification (specified in paragraph (d) of this clause) in advance of the shipment in accordance with the procedures at http://www.acq.osd.mil/log/rfid/advance_shipment_ntc.htm.

* * * * *

[FR Doc. 06-4682 Filed 5-18-06; 8:45 am]

BILLING CODE 5001-08-P